DEPARTMENT OF JUSTICE

[OMB Number 1110-NEW]

Agency Information Collection Activities; Proposed eCollection eComments Requested; Approval of a New Collection Request for Emergency or Term Access to National Security Information

AGENCY: Security Division, Federal Bureau of Investigation.

ACTION: 60-day notice.

SUMMARY: The Department of Justice (DOJ), Federal Bureau of lnvestigation (FBI), Security Division (SecD), will be submitting the following emergency information collection request to the Office of Management and Budget (OMB) for review and approval in accordance with the Paperwork Reduction Act of 1995. The primary factor contributing to the need for this form is time. OPM's own research indicates that the average time needed to fill out an SF-86 is 150 minutes. This average is largely based on young military applicants who have limited work and travel experiences. When dealing with high ranking business leaders they will be older, have more life and work experiences, taking more time to locate more details and information. Further, it takes a minimum of 120 days to process the full background. This does not include the time to transmit the form and any other administrative functions associated with the SF-86 process. In emergencies the information needs to be collected and processed quickly in order to facilitate the sharing of urgent and potentially time sensitive information.

This collocation requires emergency approval because waiting an additional 90 days for comment period will further extend the risk of attack or other emergency where information needs to be shared and cannot due to the long process currently in place to clear un-cleared personnel. Once approves, the FBI will have the capability to issue temporary clearances to individuals with the immediate need. Emergency approval is requested by May 15, 2015. The proposed information collection is published to obtain comments from the public and affected agencies.

DATES: Comments are encouraged and will be accepted for 60 days until June 26, 2015.

FOR FURTHER INFORMATION CONTACT: If you have additional comments, especially on the estimated public burden or associated response time, suggestions, or need a copy of the proposed information collection instrument with instructions or additional information, please contact Jamie B. Benn, Management and Program Analyst, FBI, Security Division, Executive Staff Unit, 935 Pennsylvania Ave. NW., Washington, DC 20535 (facsimile: 202-651-4047).

SUPPLEMENTARY INFORMATION: Written comments and suggestions from the public and affected agencies concerning the proposed collection of information are encouraged. Your comments should address one or more of the following four points:

Evaluate whether the proposed collection of information is necessary for the proper performance of the functions of the agency, including whether the information will have practical utility;

Evaluate the accuracy of the agency's estimate of the burden of the proposed collection of information, including the validity of the methodology and assumptions used;

Evaluate whether and if so how the quality, utility, and clarity of the information to be collected can be enhanced; and

Minimize the burden of the collection of information on those who are to respond, including through the use of appropriate automated, electronic, mechanical, or other technological collection techniques or other forms of information technology, e.g., permitting electronic submission of responses.

Overview of this information collection:

(1) Type of Information Collection: Approval of a new collection.

(2) Title of the Form/Collection: Request for Emergency or Term Access to National Security Information.

(3) Agency form number: FD-1116.

(4) Affected public who will be asked or required to respond, as well as a brief abstract: Primary: This form is utilized by the FBI to collect information in order to initiate a background investigation before granting access to classified and sensitive information to private sector people.

(5) An estimate of the total number of respondents and the amount of time estimated for an average respondent to respond: It is estimated that 500 respondents will complete each form within approximately 10 minutes for an average respondent to respond: It is estimated that 500 respondents will complete each form within approximately 10 minutes.

(6) An estimate of the total public burden (in hours) associated with the collection: There are an estimated 83 total annual burden hours associated with this collection.

If additional information is required contact: Jerri Murray, Department Clearance Officer, United States Department of Justice, Justice Management Division, Policy and Planning Staff, Two Constitution Square, 145 N Street NE., Room 3E.405B, Washington, DC 20530.

Dated: April 22, 2015.
Jerri Murray,
Department Clearance Officer, U.S. Department of Justice.

[FR Doc. 2015-09675 Filed 4-24-15; 8:45 am]

BILLING CODE 4410-02-P